COMMISSION ON CIVIL RIGHTS

Sunshine Act Notice

Date and Time: Friday, January 26, 2007, 9 a.m.

Place: U.S. Commission on Civil Rights, 624 Ninth Street, NW., Rm. 540, Washington, DC 20425.

Meeting Agenda

I. Approval of Agenda.

II. Approval of Minutes of December 14, Meeting.

III. Announcements.

IV. Adjourn.

Briefing Agenda

No Child Left Behind and Supplemental Educational Services.

• Introductory Remarks by Chairman.

• Speakers' Presentation.

• Questions by Commissioners and Staff Director.

Contact Person for Further Information: Manuel Alba, Press and Communications, (202) 376-8582.

Kenneth L. Marcus,
Staff Director.

[FR Doc. 07-215 Filed 1-16-07; 3:03 pm]

BILLING CODE 6335-01-P